SOCIAL SECURITY ADMINISTRATION

[Docket No. SSA-2018-0006]

Public Availability of Social Security Administration Fiscal Year (FY) 2016 Service Contract Inventory

AGENCY: Social Security Administration.

ACTION: Notice of public availability of FY 2016 Service Contract Inventories.

SUMMARY: In accordance with section 743 of Division C of the Consolidated Appropriations Act of 2010, we are publishing this notice to advise the public of the availability of the FY 2016 Service Contract inventory. This inventory provides information on FY 2016 service contract actions over $25,000. We organized the information by function to show how we distribute contracted resources throughout the agency. We developed the inventory in accordance with guidance issued on December 19, 2011 by the Office of Management and Budget's Office of Federal Procurement Policy (OFPP). OFPP's guidance is available at https://obamawhitehouse.archives.gov/sites/default/files/omb/procurement/memo/service-contract-inventory-guidance.pdf. You can access the inventory and summary of the inventory on our homepage at the following link: http://www.socialsecurity.gov/sci.

FOR FURTHER INFORMATION CONTACT: Steven Knight Jr., Office of Budget, Social Security Administration, 6401 Security Boulevard, Baltimore, MD 21235-6401. Phone (410) 965-5522, email Steven.Knight.Jr@ssa.gov.

Dated: February 14, 2018.
Michelle King,
Acting Deputy Commissioner for Budget, Finance, Quality, and Management.

[FR Doc. 2018-03650 Filed 2-21-18; 8:45 am]

BILLING CODE 4191-02-P